DEPARTMENT OF LABOR

Employment and Training Administration

[TA-W-65,498]

Mine Safety Appliances, Callery, PA; Notice of Termination of Investigation

Pursuant to Section 221 of the Trade Act of 1974, as amended, an investigation was initiated on March 5, 2009 in response to a petition filed on behalf of workers of Mine Safety Appliances, Callery, Pennsylvania.

The petitioner has requested that the petition be withdrawn. Consequently, the investigation has been terminated.

Signed at Washington, DC, this 19th day of March 2009.
Linda G. Poole,
Certifying Officer, Division of Trade Adjustment Assistance.

[FR Doc. E9-7763 Filed 4-6-09; 8:45 am]

BILLING CODE 4510-FN-P